ENVIRONMENTAL PROTECTION AGENCY

[ER-FRL-6671-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050308, ERP No. D-BLM-K65289-NV, Ely District Resource Management Plan, Implementation, White Pine, Lincoln Counties and a Portion of Nye County, NV.

Summary: EPA does not object to the proposed action. Rating LO.

EIS No. 20050365, ERP No. D-NRC-F06027-OH, American Centrifuge Plant, Gas Centrifuge Uranium Enrichment Facility, Construction, Operation, and Decommission, License Issuance, Piketon, OH.

Summary: EPA expressed concerns about the generic approach in the preparation of the DEIS, because it does not address all related enrichment, decommissioning, and disposal activities and does not fully evaluate all feasible alternatives. EPA requested additional information on the handling and control of source, product and waste materials, more comprehensive cancer rate data, more comprehensive pollutant modeling data, a more comprehensive radiation monitoring scheme, and the most current annual radiological emission data. EPA also requested an analysis of the cumulative impacts for (1) construction of Cylinder Storage Yard X-745H on the currently impaired stream (Little Beaver Creek) due to additional erosion and sedimentation impacts, and (2) groundwater contamination. Rating EC2.

EIS No. 20050374, ERP No. D-BLM-K65290-CA, Ukiah Resource Management Plan, Implementation, Several Counties, CA.

Summary: EPA does not object to the proposed project. Rating LO.

EIS No. 20050414, ERP No. D-NRC-C06015-NY, Generic—License Renewal of Nuclear Plants for Nine Mile Point Nuclear Station, Units 1 and 2, Supplement 24 to NUREG 1437, Implementation, Lake Ontario, Oswego County, NY.

Summary: EPA expressed environmental concerns about the project's impingement and entrainment impacts to fish and shellfish, as well as from heat shock and the need to perform a narrower EJ analysis. EPA also requested that the issues of waste treatment and pollution prevention be addressed. Rating EC2.

EIS No. 20050441, ERP No. D-COE-L32013-AK, Delong Mountain Terminal Project, Proposed Construction and Operation of Navigation Improvements, Northwest Arctic Borough, AK.

Summary: EPA expressed environmental concerns about potential adverse impacts to subsistence resources and the ability of native hunters to harvest these resources. EPA recommended consideration of changes to the preferred alternative and additional mitigation measures to reduce these impacts be considered during Government-to-Government Consultation with the local Tribes. EPA also recommended that the Final EIS include additional information regarding the planning process, evaluation of alternatives, cost estimates, and economic analysis. Rating EC2.

EIS No. 20050469, ERP No. D-NOA-A91073-00, Programmatic—Towards an Ecosystem Approach for the Western Pacific Region: From Species Based Fishery Management Plans to Place-Based Fishery Ecosystem Plans, Realignment, Implementation, Western Pacific Region (America Samoa, Guam, Hawaii, Commonwealth of the Northern Mariana Islands), and U.S. Pacific Remote Island Areas.

Summary: EPA does not object to the proposed action. Rating LO.

EIS No. 20050481, ERP No. D-FTA-H40187-MO, St. Louis Metro South Metrolink Extension, Transportation Improvement, City of St. Louis, St. Louis County, MO.

Summary: EPA has expressed environmental concerns about the proposed project regarding potential impacts to floodplains, park and recreation lands, water quality, wetlands, noise and vibration. EPA is also concerned about the uncertainty of potential issues that could arise between now and the projected construction start date, which is likely greater than 5 years, considered to be the useful life of an EIS. Rating EC2.

EIS No. 20050493, ERP No. D-NPS-G61043-AR, Pea Ridge National Military Park General Management Plan, Implementation, AR.

Summary: EPA does not object to the preferred action as described in the DEIS. Rating LO.

EIS No. 20050460, ERP No. DS-USN-A10072-00, Surveillance Towed Array Sensor System Low Frequency Active (SURTASS LFA) Sonar Systems, Updated and Additional Information, Implementation.

Summary: EPA does not object to the proposed action. Rating LO.

EIS No. 20050483, ERP No. DS-UAF-G11038-00, Realistic Bomber Training Initiative, Addresses Impacts of Wake Vortices on Surface Structures, Dyess Air Force Base, TX and Barksdale Air Force Base, LA.

Summary: EPA does not object to the proposed project. Rating LO.

Final EISs

EIS No. 20050420, ERP No. F-IBR-K60035-NV, Humboldt Project Conveyance, Transferring 83,530 Acres from Federal Ownership to the Pershing County Water Conservation District (PCWCD), Pershing and Lander Counties, NV.

Summary: EPA does not object to the proposed project.

EIS No. 20050474, ERP No. F-COE-K11114-CA, Mare Island Reuse of Dredged Material Disposal Ponds as a Confirmed Updated Dredged Material Disposal Facility, Issuing Section 404 Permit Clean Water Act and Section 10 Permit Rivers and Harbor Act, San Francisco Bay Area, City of Vallejo, Solando County, CA.

Summary: EPA concerns regarding responsibility for key aspects of site operations were addressed in the Final EIS; therefore, EPA does not object to the proposed action.

EIS No. 20050482, ERP No. F-AFS-J65427-WY, Cottonwood II Vegetation Management Project, Vegetation Management in the North and South Cottonwood Creek Drainages, Implementation, Bridger-Teton National Forest, Big Piney Ranger District, Sublette County, WY.

Summary: EPA has remaining concerns about potential adverse impacts to water quality, soils, fish and wildlife habitat, and socio-economic impacts to the community.

EIS No. 20050499, ERP No. F-AFS-H65022-MO, Mark Twain National Forest Land and Resource Management Plan, Implementation, Revise to the 1986 Land and Resource Management Plan, several counties, MO.

Summary: The Final EIS addressed EPA's concerns on air quality impacts of prescribed burning, degree of cumulative impacts assessment and provides more detail on the adaptive management process. Therefore, EPA does not object to the proposed action.

EIS No. 20050505, ERP No. F-AFS-L65481-00, Caribou Travel Plan Revision, Determine the Motorized Road and Trail System, Implementation, Caribou-Targhee National Forest, Westside, Soda Spring and Montpeller Ranger Districts, Bannock, Bear River, Bonneville, Caribou, Franklin, Oneida and Power Counties, ID; Box Elder and Cache Counties, UT and Lincoln County, WY.

Summary: The final EIS addressed EPA's concerns about the travel plan's potential adverse impacts to water quality, air quality, and wilderness; therefore, EPA does not object to the proposed action.

EIS No. 20050512, ERP No. F-NPS-D61056-DC, Rock Creek Park and the Rock Creek and Potomac Parkway Project, General Management Plan, Implementation, Washington, DC.

Summary: The Final EIS has adequately addressed EPA's concerns with road improvements and visitor safety, wildlife management, and historic resources; therefore, EPA does not object to the proposed action.

EIS No. 20050536, ERP No. F-FAA-A12043-00, Horizontal Launch and Reentry of Reentry Vehicles, Facilitate the Issuance of Licenses in United States.

Summary: No formal comment letter was sent to the preparing agency.

EIS No. 20060000, ERP No. F-BLM-G65096-NM, McGregor Range Resource Management Plan Amendment (RMPA), Implementation, Otero County, NM.

Summary: No comment letter was sent to the preparing agency.

Dated: January 17, 2006.
Pearl Young,
Management Analyst, Office of Federal Activities.

[FR Doc. E6-651 Filed 1-19-06; 8:45 am]

BILLING CODE 6560-50-P